DEPARTMENT OF LABOR

Employment and Training Administration

[TA-W-74,689]

Amdocs, Inc., Global Support Services, Advertising And Media AT&T Division, New Haven, Connecticut; Notice of Affirmative Determination Regarding Application for Reconsideration

By application dated December 22, 2010, legal counsel of a member of the subject worker group requested administrative reconsideration of the negative determination regarding workers' eligibility to apply for Trade Adjustment Assistance (TAA) applicable to workers and former workers of Amdocs, Inc., Global Support Services, Advertising and Media AT&T Division, New Haven, Connecticut (subject firm). The negative determination was issued on November 9, 2010. The Notice of determination was published in the Federal Register on November 23, 2010 (75 FR 71461).

The negative determination was based on the findings that the worker separations are not attributable to increased imports or a shift of services by the workers' firm. Specifically, services shifted to a foreign country by Amdocs, Inc. did not contribute importantly to worker separations in Global Support Services, Advertising and Media AT&T Division.

The investigation also revealed that the firm is not a Supplier or Downstream Producer to a firm with a TAA-certified worker group.

In the request for reconsideration, the petitioner alleged that the workers of the Advertising and Media Division are eligible to apply for TAA because Section 222(a) and/or Section 222(c) of the Trade Act of 1974, as amended, has been met.

The Department has carefully reviewed the request for reconsideration and the existing record, and has determined that the Department will conduct further investigation to determine if the petitioning workers meet the eligibility requirements of the Trade Act of 1974, as amended.

Conclusion

After careful review of the application, I conclude that the claim is of sufficient weight to justify reconsideration of the U.S. Department of Labor's prior decision. The application is, therefore, granted.

Signed at Washington, DC, this 21st day of January, 2011.
Del Min Amy Chen,
Certifying Officer, Office of Trade Adjustment Assistance.

[FR Doc. 2011-2241 Filed 2-1-11; 8:45 am]

BILLING CODE 4510-FN-P